DEPARTMENT OF COMMERCE

International Trade Administration

(A-533-843, A-560-818, A-570-901, C-533-844, C-560-819)

Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia

AGENCY: Import Administration, International Trade Administration, Department of Commerce.

SUMMARY: Based on affirmative final determinations by the Department of Commerce (the Department) and the International Trade Commission (ITC), the Department is issuing antidumping duty orders on certain lined paper products (CLPP) from India, Indonesia and the People's Republic of China (PRC) and countervailing duty orders on CLPP from India and Indonesia. On September 21, 2006, the ITC notified the Department of its affirmative determination of material injury to a U.S. industry and its negative determination of critical circumstances. See Certain Lined Paper School Supplies, USITC Pub. 3884, Inv. Nos. 701-TA-442-443 and 731-TA-1095-1097 (Final) (September 2006).

EFFECTIVE DATE: September 28, 2006.

FOR FURTHER INFORMATION CONTACT: Christopher Hargett, (India AD) (202) 482- 4161, Damian Felton (Indonesia AD) (202) 482-0133; Frances Veith (PRC) (202) 482- 4295, Robert Copyak (India CVD) (202) 482- 2209, David Layton (Indonesia CVD) (202) 482-0371, Import Administration, International Trade Administration, U.S. Department of Commerce, 14th Street and Constitution Avenue, NW, Washington, DC 20230.

SUPPLEMENTARY INFORMATION:

Background

On August 8, 2006, the Department published its final determinations in the antidumping duty and countervailing duty investigations of CLPP from India. See Final Determination of Sales at Less Than Fair Value, and Negative Determination of Critical Circumstances: Certain Lined Paper Products from India, 71 FR 45012 (August 8, 2006) and Final Affirmative Countervailing Duty Determination and Final Negative Critical Circumstances Determination: Certain Lined Paper Products from India, 71 FR 45034 (August 8, 2006). On August 16, 2006, the Department published its final determinations in the antidumping duty and countervailing duty investigations of CLPP from Indonesia. See Final Determination of Sales at Less Than Fair Value and Affirmative Final Determination of Critical Circumstances: Certain Lined Paper Products from Indonesia, 71 FR 47171 (August 16, 2006) and Final Affirmative Countervailing Duty Determination and Final Negative Critical Circumstances Determination: Certain Lined Paper Products from Indonesia, 71 FR 47174 (August 16, 2006). On September 8, 2006, the Department published its final determination in the antidumping duty investigation of CLPP from the PRC. See Final Determination of Sales at Less Than Fair Value, and Affirmative Critical Circumstances, In Part: Certain Lined Paper Products from the People's Republic of China, 71 FR 53079 (September 8, 2006) (PRC Final Determination).

On September 21, 2006, the ITC notified the Department of its final determination pursuant to sections 705(b)(1)(A)(i) and 735(b)(1)(A)(i) of the Tariff Act of 1930, as amended (the Act), that an industry in the United States is materially injured by reason of less-than-fair-value imports of subject merchandise from India, Indonesia and the PRC and by reason of subsidized imports from India and Indonesia. The ITC also determined that critical circumstances do not exist for Indonesia and the PRC.¹

¹ In our final determination for India, we found that critical circumstances do not exist. Because the Department did not find critical circumstances in its final determination, the ITC did not make a determination on critical circumstances with regard to India.

Scope Of The Orders

The scope of these orders includes certain lined paper products, typically school supplies,² composed of or including paper that incorporates straight horizontal and/or vertical lines on ten or more paper sheets,³ including but not limited to such products as single- and multi-subject notebooks, composition books, wireless notebooks, looseleaf or glued filler paper, graph paper, and laboratory notebooks, and with the smaller dimension of the paper measuring 6 inches to 15 inches (inclusive) and the larger dimension of the paper measuring 8-3/4 inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of these orders whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

² For purposes of this scope definition, the actual use or labeling of these products as school supplies or non-school supplies is not a defining characteristic.

³ There shall be no minimum page requirement for looseleaf filler paper.

Specifically excluded from the scope of these orders are:

• unlined copy machine paper;

• writing pads with a backing (including but not limited to products commonly known as “tablets,” “note pads,” “legal pads,” and “quadrille pads”), provided that they do not have a front cover (whether permanent or removable). This exclusion does not apply to such writing pads if they consist of hole-punched or drilled filler paper;

• three-ring or multiple-ring binders, or notebook organizers incorporating such a ring binder provided that they do not include subject paper;

• index cards;

• printed books and other books that are case bound through the inclusion of binders board, a spine strip, and cover wrap;

• newspapers;

• pictures and photographs;

• desk and wall calendars and organizers (including but not limited to such products generally known as “office planners,” “time books,” and “appointment books”);

• telephone logs;

• address books;

• columnar pads & tablets, with or without covers, primarily suited for the recording of written numerical business data;

• lined business or office forms, including but not limited to: preprinted business forms, lined invoice pads and paper, mailing and address labels, manifests, and shipping log books;

• lined continuous computer paper;

• boxed or packaged writing stationery (including but not limited to products commonly known as “fine business paper,” “parchment paper,” and “letterhead”), whether or not containing a lined header or decorative lines;

• Stenographic pads (“steno pads”), Gregg ruled,⁴ measuring 6 inches by 9 inches;

⁴ “Gregg ruling” consists of a single- or double-margin vertical ruling line down the center of the page. For a six-inch by nine-inch stenographic pad, the ruling would be located approximately three inches from the left of the book.

Also excluded from the scope of these orders are the following trademarked products:

• Fly™ lined paper products: A notebook, notebook organizer, loose or glued note paper, with papers that are printed with infrared reflective inks and readable only by a Fly™ pen-top computer. The product must bear the valid trademark Fly™.⁵

⁵ Products found to be bearing an invalidly licensed or used trademark are not excluded from the scope.

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™.⁶

⁶ Products found to be bearing an invalidly licensed or used trademark are not excluded from the scope.

• FiveStar®Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1” wide elastic fabric band. This band is located 2-3/8” from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™.⁷

⁷ Products found to be bearing an invalidly licensed or used trademark are not excluded from the scope.

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™.⁸

⁸ Products found to be bearing an invalidly licensed or used trademark are not excluded from the scope.

Merchandise subject to these orders is typically imported under headings 4810.22.5044, 4811.90.9090, 4820.10.2010, 4820.10.2020, 4820.10.2050, and 4820.10.4000 of the Harmonized Tariff Schedule of the United States (HTSUS).⁹ The tariff classifications are provided for convenience and customs purposes; however, the written description of the scope of the order is dispositive.

⁹ During the investigation additional HTSUS headings were identified.

Amendment To The PRC Final Determination

In accordance with sections 735(d) and 777(i)(1) of the Act, on September 8, 2006, the Department published its notice of final determination of sales at less than fair value (LTFV) in the investigation of CLPP from the PRC. See PRC Final Determination, 71 FR 53079, and corresponding “Issues and Decision Memorandum” (August 30, 2006). On September 8, 2006, Shanghai Lian Li Paper Products Co., Ltd. (Lian Li) filed timely allegations stating that the Department made ministerial errors in its final determination. On September 12, 2006, MGA Entertainment (H.K.) Limited (MGA), filed timely allegations stating that the Department made a ministerial error in its final determination.

After analyzing all interested party comments and rebuttals, we have determined, in accordance with 19 C.F.R. 351.224(e), that we made one ministerial error in our calculations performed for the final determination. As a result, the dumping margin calculated for Lian Li has changed from 94.98 percent to 94.91 percent. For a detailed discussion of the ministerial error allegations, as well as the Department's analysis, see the Memorandum to Wendy J. Frankel, from Charles Riggle, Program Manager, re: “Final Determination of the Antidumping Duty Investigation of Certain Lined Paper Products from the People's Republic of China: Allegations of Ministerial Errors “ (September 22, 2006) and the Memorandum to the File, “Amended Final Determination in the Investigation of Certain Lined Paper Products from the People's Republic of China: Calculation Memorandum, Shanghai Lian Li Paper Products Co. Ltd.,” (September 22, 2006). Additionally, in the PRC Final Determination, we determined that multiple companies qualified for separate-rate status. The margin we calculated in the PRC Final Determination for these companies was 78.39 percent. Because the final margin rate of the mandatory respondent, Lian Li, has changed since the PRC Final Determination as a result of the correction to the ministerial error, we have recalculated the margin rate for separate-rates respondents and the amended margin rate is 78.38 percent. See the Memorandum to Wendy J. Frankel, through Charles Riggle, from Frances Veith, re: “Amended Separate Rates Memorandum for the Final Determination: Certain Lined Paper Products from the People's Republic of China” (September 22, 2006).

Therefore, in accordance with 19 CFR 351.224(e), we are amending the final determination of sales at LTFV in the antidumping duty investigation of CLPP from the PRC. The revised dumping margins are listed in the chart below.

Antidumping Duty Orders

On September 21, 2006, in accordance with section 735(d) of the Act, the ITC notified the Department of its final determination that the industry in the United States producing CLPP is materially injured within the meaning of section 735(b)(1)(A)(i) of the Act by reason of LTFV imports of subject merchandise from India, Indonesia and the PRC.

In accordance with section 736(a)(1) of the Act, the Department will direct U.S. Customs and Border Protection (CBP) to assess, upon further advice by the Department, antidumping duties equal to the amount by which the normal value of the merchandise exceeds the export price or constructed export price of the merchandise for all relevant entries of CLPP from India, Indonesia and the PRC. These antidumping duties will be assessed on all unliquidated entries of CLPP entered, or withdrawn from warehouse, for consumption on or after March 27, 2006 (Indonesia) or April 17, 2006 (India and the PRC), the dates on which the Department published its notices of preliminary determination in the Federal Register.¹⁰ Pursuant to section 733(d) of the Act, entries of CLPP from Indonesia made between September 23, 2006 and the day preceding the date of publication of the ITC's notice of final determination in the Federal Register) are not liable for the assessment of antidumping duties.

¹⁰ See Preliminary Determination of Sales at Less Than Fair Value: Certain Lined Paper Products from Indonesia, 71 FR 15162 (March 27, 2006); Preliminary Determination of Sales at Less Than Fair Value, Postponement of Final Determination, and Affirmative Preliminary Determination of Critical Circumstances in Part: Certain Lined Paper Products From India, 71 FR 19706 (April 17, 2006); and Preliminary Determination of Sales at Less Than Fair Value, Affirmative Critical Circumstances, In Part, and Postponement of Final Determination: Certain Lined Paper Products from the People's Republic of China, 71 FR 19695 (April 17, 2006).

With regard to the negative critical circumstances determinations, we will instruct CBP to lift suspension, release any bond or other security, and refund any cash deposit made to secure the payment of antidumping duties with respect to entries of the merchandise entered, or withdrawn from warehouse, for consumption on or after December 27, 2005 (Indonesia) or January 17, 2006 (the PRC), but before March 27, 2006 (Indonesia) or April 17, 2006 (the PRC) (i.e., the 90 days prior to the date of publication of the respective preliminary determinations in the Federal Register).¹¹

¹¹ In our final determination for India, we found that critical circumstances do not exist. Because the Department did not find critical circumstances in its final determination, the ITC did not make a determination on critical circumstances with regard to India.

On or after the date of publication of the ITC's notice of final determination in the Federal Register, CBP must require, at the same time as importers would normally deposit estimated duties on this merchandise, a cash deposit equal to the estimated weighted-average dumping margins as noted below.

Country | Manufacturer/exporter | Margin (percent) | Deposit Percentages
India | Aero Exports | 23.17 | 16.12
| Kejriwal Paper Limited | 3.91 | 3.91
| Navneet Publications (India) Ltd. | 23.17 | 12.93
| All Others | 3.91 | 3.91
Indonesia | PT. Pabrik Kertas Tjiwi Kimia Tbk | 118.63 | 118.63
| All Others | 97.85 | 97.85

PRC Exporter | Producer | Margin (percent)
Watanabe Paper Product (Linqing) Co., Ltd. | Watanabe Paper Product (Linqing) Co., Ltd. | 76.70
Watanabe Paper Product (Linqing) Co., Ltd. | Hotrock Stationery (Shenzhen) Co., Ltd. | 76.70
Watanabe Paper Product (Linqing) Co., Ltd. | Watanabe Paper Products (Shanghai) Co., Ltd. | 76.70
Hotrock Stationery (Shenzhen) Co., Ltd. | Hotrock Stationery (Shenzhen) Co., Ltd. | 76.70
Hotrock Stationery (Shenzhen) Co., Ltd. | Watanabe Paper Product (Linqing) Co., Ltd. | 76.70
Hotrock Stationery (Shenzhen) Co., Ltd. | Watanabe Paper Products (Shanghai) Co., Ltd. | 76.70
Watanabe Paper Products (Shanghai) Co., Ltd. | Watanabe Paper Products (Shanghai) Co., Ltd. | 76.70
Watanabe Paper Products (Shanghai) Co., Ltd. | Hotrock Stationery (Shenzhen) Co., Ltd. | 76.70
Watanabe Paper Products (Shanghai) Co., Ltd. | Watanabe Paper Product (Linqing) Co., Ltd. | 76.70
Shanghai Lian Li Paper Products Co., Ltd. | Shanghai Lian Li Paper Products Co., Ltd. | 94.91
Shanghai Lian Li Paper Products Co., Ltd. | Sentian Paper Products Co., Ltd | 94.91
Shanghai Lian Li Paper Products Co., Ltd. | Shanghai Miaopaofang Paper Products Co., Ltd | 94.91
Shanghai Lian Li Paper Products Co., Ltd. | Shanghai Pudong Wenbao Paper Products Co., Ltd. | 94.91
Shanghai Lian Li Paper Products Co., Ltd. | Changshu Changjiang Printing Co., Ltd. | 94.91
Shanghai Lian Li Paper Products Co., Ltd. | Shanghai Loutang Stationery Factory | 94.91
Shanghai Lian Li Paper Products Co., Ltd. | Shanghai Beijia Paper Products Co., Ltd. | 94.91
Ningbo Guangbo Imports and Exports Co. Ltd. | Ningbo Guangbo Plastic Products Manufacture Co., Ltd. | 78.38
Yalong Paper Products (Kunshan) Co., Ltd | Yalong Paper Products (Kunshan) Co., Ltd | 78.38
Suzhou Industrial Park Asia Pacific Paper Converting Co., Ltd. | Suzhou Industrial Park Asia Pacific Paper Converting Co., Ltd. | 78.38
Sunshine International Group (HK) Ltd. | Dongguan Shipai Tonzex Electronics Plastic Stationery Factory; | 78.38
Sunshine International Group (HK) Ltd. | Dongguan Kwong Wo Stationery Co., Ltd.; | 78.38
Sunshine International Group (HK) Ltd. | Hua Lian Electronics Plastic Stationery Co., Ltd. | 78.38
Suzhou Industrial Park You-You Trading Co., Ltd. | Linqing YinXing Paper Co., Ltd. | 78.38
Suzhou Industrial Park You-You Trading Co., Ltd. | Jiaxing Seagull Paper Products Co., Ltd. | 78.38
Suzhou Industrial Park You-You Trading Co., Ltd. | Shenda Paper Product Factory | 78.38
Suzhou Industrial Park You-You Trading Co., Ltd. | Lianyi Paper Product Factory | 78.38
Suzhou Industrial Park You-You Trading Co., Ltd. | Changhang Paper Product Factory | 78.38
Suzhou Industrial Park You-You Trading Co., Ltd. | Tianlong Paper Product Factory | 78.38
Suzhou Industrial Park You-You Trading Co., Ltd. | Rugao Paper Printer Co., Ltd. | 78.38
Suzhou Industrial Park You-You Trading Co., Ltd. | Yinlong Paper Product Factory | 78.38
You You Paper Products (Suzhou) Co., Ltd. | You You Paper Products (Suzhou) Co., Ltd. | 78.38
Haijing Stationery (Shanghai) Co., Ltd. | Haijing Stationery (Shanghai) Co., Ltd. | 78.38
Orient International Holding Shanghai Foreign Trade Co., Ltd. | Yalong Paper Products (Kunshan) Co., Ltd. | 78.38
Orient International Holding Shanghai Foreign Trade Co., Ltd. | Shanghai Comwell Stationery Co., Ltd. | 78.38
Orient International Holding Shanghai Foreign Trade Co., Ltd. | Yuezhou Paper Co., Ltd. | 78.38
Orient International Holding Shanghai Foreign Trade Co., Ltd. | Changshu Guangming Stationery Co., Ltd. | 78.38
Shanghai Foreign Trade Enterprise Co., Ltd. | Shanghai Xin Zhi Liang Culture Products Co., Ltd.; | 78.38
Shanghai Foreign Trade Enterprise Co., Ltd. | Shangyu Zhongsheng Paper Products Co., Ltd.; | 78.38
Shanghai Foreign Trade Enterprise Co., Ltd. | Shanghai Miaoxi Paper Products Factory; | 78.38
Shanghai Foreign Trade Enterprise Co., Ltd. | Shanghai Xueya Stationery Co., Ltd. | 78.38
Anhui Light Industries International Co., Ltd. | Shanghai Pudong Wenbao Paper Products Factory; | 78.38
Anhui Light Industries International Co., Ltd. | Foshan City Wenhai Paper Factory | 78.38
Fujian Hengda Group Co., Ltd., | Fujian Hengda Group Co., Ltd., | 78.38
Changshu Changjiang Printing Co., Ltd. | Changshu Changjiang Paper Industry Co., Ltd. | 78.38
Jiaxing Te Gao Te Paper Products Co., Ltd | Jiaxing Te Gao Te Paper Products Co., Ltd | 78.38
Jiaxing Te Gao Te Paper Products Co., Ltd | Jiaxing Seagull Paper Products Co., Ltd. | 78.38
Jiaxing Te Gao Te Paper Products Co., Ltd | Jiaxing Boshi Paper Products Co., Ltd. | 78.38
Chinapack Ningbo Paper Products Co., Ltd. | Jiaxing Te Gao Te Paper Products Co., Ltd. | 78.38
Linqing Silver Star Paper Products Co., Ltd. | Linqing Silver Star Paper Products Co., Ltd. | 78.38
Wah Kin Stationery and Paper Product Limited | Shenzhen Baoan Waijing Development Company | 78.38
Shanghai Pudong Wenbao Paper Products Factory | Shanghai Pudong Wenbao Paper Products Factory | 78.38
Shanghai Pudong Wenbao Paper Products Factory | Linqing Glistar Paper Products Co., Ltd. | 78.38
Shanghai Pudong Wenbao Paper Products Factory | Changshu Changjiang Printing Co., Ltd. | 78.38
Shanghai Pudong Wenbao Paper Products Factory | Linqing Silver Star Paper Products Co., Ltd. | 78.38
Paperline Limited | Shanghai Pudong Wenbao Paper Products Factory | 78.38
Paperline Limited | Linqing Glistar Paper Products Co., Ltd. | 78.38
Paperline Limited | Changshu Changjiang Printing Co., Ltd. | 78.38
Paperline Limited | Linqing Silver Star Paper Products Co., Ltd. | 78.38
Paperline Limited | Jiaxing Te Gao Te Paper Products Co., Ltd. | 78.38
Paperline Limited | Yantai License Printing & Making Co., Ltd. | 78.38
Yantai License Printing & Making Co., Ltd. | Yantai License Printing & Making Co., Ltd. | 78.38
Paperline Limited | Anhui Jinhua Import & Export Co., Ltd. | 78.38
Essential Industries Limited | Dongguan Yizhi Gao Paper Products Ltd. | 78.38
MGA Entertainment (H.K.) Limited | Kon Dai (Far East) Packaging Co., Ltd. | 78.38
MGA Entertainment (H.K.) Limited | Dong Guan Huang Giang Rong Da Printing Factory | 78.38
MGA Entertainment (H.K.) Limited | Dong Guan Huang Giang Da Printing Co., Limited | 78.38
Excel Sheen Limited | Dongguan Shipai Fuda Stationery Factory | 78.38
Maxleaf Stationery Ltd. | Maxleaf Stationery Ltd. | 78.38
PRC Entity* |  | 258.21
*Including Atico, Planet International, and the companies that did not respond to the Q&V questionnaire.

Countervailing Duty Orders

On September 21, 2006, in accordance with section 705(d) of the Act, the ITC notified the Department of its final determination that the industry in the United States producing CLPP is materially injured within the meaning of section 705(b)(1)(A)(i) of the Act by reason of subsidized imports of CLPP from India and Indonesia.

Therefore, countervailing duties will be assessed on all unliquidated entries of CLPP from India and Indonesia entered, or withdrawn from warehouse, for consumption on or after February 13, 2006 (Indonesia), or February 15, 2006 (India), the dates on which the Department published its preliminary affirmative countervailing duty determinations in the Federal Register,¹² and before June 13, 2006 (Indonesia) or June 15, 2006 (India), the dates the Department instructed the CBP to discontinue the suspension of liquidation in accordance with section 703(d) of the Act. Section 703(d) states that the suspension of liquidation pursuant to a preliminary determination may not remain in effect for more than four months. Therefore, entries of CLPP made on or after June 13, 2006 (Indonesia) or June 15, 2006 (India), and prior to the date of publication of the ITC's final determination in the Federal Register are not liable for the assessment of countervailing duties due to the Department's discontinuation, effective June 13, 2006 (Indonesia) or June 15, 2006 (India), of the suspension of liquidation.

¹² See Preliminary Affirmative Countervailing Duty Determination: Certain Lined Paper Products from Indonesia, 71 FR 7524 (February 13, 2006) and Preliminary Affirmative Countervailing Duty Determination and Preliminary Negative Critical Circumstances Determination: Certain Lined Paper Products From India, 71 FR 7916 (February 15, 2006).

In accordance with section 706 of the Act, the Department will direct CBP to reinstitute the suspension of liquidation for CLPP from India and Indonesia, with the exception of Kejriwal Paper Limited, which has a de minimis net subsidy rate and is, therefore, exempt from the CVD order on CLPP from India, effective the date of publication of the ITC's notice of final determination in the Federal Register and to assess, upon further advice by the Department pursuant to section 706(a)(1) of the Act, countervailing duties for each entry of the subject merchandise in an amount based on the net countervailable subsidy rates for the subject merchandise as noted below.

Country | Manufacturer/exporter | Net Subsidy Rate
India | Aero Exports | 7.05
| Kejriwal Paper Limited¹³ | de minimis
| Navneet Publications | 10.24
| All Others | 9.42
Indonesia | PT. Pabrik Kertas Tjiwi Kimia Tbk | 40.55
| All Others | 40.55
¹³ Because Kejriwal Paper is de minimus, it is excluded.

This notice constitutes the antidumping duty orders with respect to CLPP from India, Indonesia and the PRC and the countervailing duty orders with respect to CLPP from India and Indonesia, pursuant to section 736(a) of the Act. Interested parties may contact the Department's Central Records Unit, Room B-099 of the Main Commerce Building, for copies of an updated list of antidumping duty orders currently in effect.

These orders are issued and published in accordance with section 736(a) of Act and 19 CFR 351.211(b).

Dated: September 22, 2006.
David M. Spooner,
Assistant Secretary for Import Administration.

[FR Doc. E6-15935 Filed 9-27-06; 8:45 am]

BILLING CODE 3510-DS-S